DEPARTMENT OF COMMERCE

International Trade Administration

The Manufacturing Council: Meeting of The Manufacturing Council

AGENCY: International Trade Administration, U.S. Department of Commerce.

ACTION: Notice of public meeting.

SUMMARY: The Manufacturing Council will hold a full Council meeting to discuss topics related to the state of manufacturing. The Manufacturing Council is a Secretarial Board at the Department of Commerce, established to ensure regular communication between Government and the manufacturing sector. This meeting of The Manufacturing Council will include updates by the Council's three subcommittees and discussion on research and development, and trade. For information about the Council, please visit the Manufacturing Council Web site at: http://www.manufacturing.gov/council.htm.

DATES: June 16, 2005. Time: 10:30 a.m.

ADDRESSES: National Institute of Standards and Technology, 100 Bureau Drive, Administration Building, Employees Lounge, Gaithersburg, MD 20899. This program is physically accessible to people with disabilities. Requests for sign language interpretation or other auxiliary aids should be submitted no later than June 12, 2006, to The Manufacturing Council, Room 4043, Washington, DC 20230.

To Attend: Due to security rules, if you would like to attend, please send your full name and affiliation to sam.giller@mail.doc.gov no later than June 12, 2006.

FOR FURTHER INFORMATION CONTACT: The Manufacturing Council Executive Secretariat, Room 4043, Washington, DC 20230 (Phone: 202-482-1369). The Executive Secretariat encourages interested parties to refer to The Manufacturing Council Web site (http://www.manufacturing.gov/council/) for the most up-to-date information about the meeting and the Council.

Dated: May 26, 2006.
Sam Giller,
Executive Secretary, The Manufacturing Council.

[FR Doc. E6-8622 Filed 6-1-06; 8:45 am]

BILLING CODE 3510-DR-P